DEPARTMENT OF THE INTERIOR

Geological Survey

[GX14EE000101000]

Agency Information Collection Activities: Request for Comments

AGENCY: U.S. Geological Survey (USGS), Interior.

ACTION: Notice of a new information collection, ISO Geospatial Metadata Editors Registry.

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC.

DATES: To ensure that your comments are considered, we must receive them on or before July 14, 2014.

ADDRESSES: You may submit comments on this information collection to the Information Collection Clearance Officer, U.S. Geological Survey, 12201 Sunrise Valley Drive MS 807, Reston, VA 20192 (mail); (703) 648-7197 (fax); or gs-info_collections@usgs.gov (email). Please reference ‘Information Collection 1028-NEW, ISO Geospatial Metadata Editors Registry' in all correspondence.

FOR FURTHER INFORMATION CONTACT: Jennifer Carlino, Federal Geographic Data Committee Office of the Secretariat, at (303) 202-4260 or jcarlino@usgs.gov.

SUPPLEMENTARY INFORMATION:

I. Abstract

As National Spatial Data Infrastructure (NSDI) stakeholders move forward with the implementation of the International Organization for Standardization's (ISO) 191** series of geospatial metadata standards, there is increasing demand for information about applications/editors that can be used to create ISO compliant metadata records. The USGS, through the Federal Geographic Data Committee (FGDC) Office of the Secretariat (www.fgdc.gov), proposes development of an online registration system for developers of ISO Geospatial Metadata Editors to voluntarily describe their metadata tools. Developers will be asked to include information such as features of the editor, its functionality, supported standards, and point of contact information through a login-based, online form. The FGDC Metadata Working Group (MWG) (www.fgdc.gov/participation/working-groups-subcommittees/mwg/), whose membership represents Federal, State, Local and Tribal governments and the Private Sector, has requested the development of the registry as a useful tool to learn about available ISO Geospatial Metadata Editors. Since the information about the editors may be of interest or utility to others implementing ISO geospatial metadata standards, the FGDC will make the information collected available on the Web in the form of a simple registry-type database. FGDC MWG members as well as non FGDC MWG members including geospatial metadata implementers from private sector, academia, all forms of government, and the general public, will have read-only access to the editor information published in the registry.

II. Data

OMB Control Number: 1028-NEW.

Title: ISO Geospatial Metadata Editors Registry.

Type of Request: New information collection.

Affected Public: Federal, State, Local and Tribal governments, Private Sector, and others involved in the development of ISO geospatial metadata.

Respondent's Obligation: None. Participation is voluntary.

Frequency of Collection: Following its initial collection from editor developers, the information will be reviewed at least annually. As part of the annual review, all editor developers listed in the registry will be contacted and requested to update their information, if needed, via the login-based online form. Additionally, all NSDI stakeholders will be reminded via Web posting at the FGDC Web site (www.fgdc.gov) and community-of-practice networking that new editors may be added to the registry.

Estimated Annual Number of Respondents: Approximately 10.

Estimated Total Number of Annual Responses: Approximately 10 responses (i.e., additions to the registry) are expected in the initial data collection phase (first year). In subsequent years, annual additions to the registry are expected to be 5 or fewer.

Estimated Time per Response: We estimate that it will take one hour per person to document a single editor for inclusion in the registry. In future years, review of editor information to ensure currency or identification of new editors is expected to require de minimis effort.

Estimated Annual Burden Hours: 10 hours in year one and less than 5 in each subsequent year.

Estimated Reporting and Recordkeeping “Non-Hour Cost” Burden: None.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Kenneth M. Shaffer,
Deputy Director, Federal Geographic Data Committee, Office of the Secretariat, U.S. Geological Survey.

[FR Doc. 2014-11199 Filed 5-14-14; 8:45 am]

BILLING CODE 4311-Y7-P